DEPARTMENT OF THE INTERIOR

National Park Service

National Register of Historic Places; Notification of Pending Nominations

Nominations for the following properties being considered for listing in the National Register were received by the National Park Service before August 26, 2000. Pursuant to § 60.13 of 36 CFR Part 60 written comments concerning the significance of these properties under the National Register criteria for evaluation may be forwarded to the National Register, National Park Service, 1849 C St. NW, NC400, Washington, DC 20240. Written comments should be submitted by September 21, 2000.

Carol D. Shull,
Keeper of the National Register.

Arizona

Cochise County

Douglas, Walter, House, 201 Cole Ave., Bisbee, 00001125

Maricopa County

Cave Creek Service Station, 6141 Cave Creek Rd., Cave Creek, 00001126

Chandler Commercial Historic District, Roughly bounded Boston, Oregon, Buffalo, and Washington Sts., Chandler, 00001127

Connecticut

Windham County

Connecticut Path, Address Restricted, Woodstock, 00001128

Florida

Citrus County

Hernando Elementary School, Old, 2435 N. Florida Ave., Hernando, 00001129

Escambia County

Hickory Ridge Cemetery Archeological Site, Address Restricted, Pensacola, 00001131

Seminole County

Ritz Theater, 201 S. Magnolia Ave., Sanford, 00001130

Indiana

Allen County Oakdale Historic District, Roughly along Oakdale Dr. from Harrison St. to Broadway, Fort Wayne, 00001132

Bartholomew County

Gant, William R., Farm, 5890 S. 175 St., Columbus, 00001134

Benton County

Fraser & Isham Law Office, 306 E Fifth St., Fowler, 00001135

Dearborn County

Dearborn County Asylum for the Poor, 11636 County Farm Rd., Aurora, 00001143

Fulton County

Fulton County Courthouse, 815 Main St., Rochester, 00001138

Greene County

Linton Public Library, 110 E. Vincennes St., Linton, 00001141

Hamilton County

Cole-Evans House, 1012 Monument St., Noblesville, 00001136

Hendricks County

Sugar Grove Meetinghouse and Cemetery, Jct. of Cty Rte. 700 E and Cty Rte. 600 S, Plainfield, 00001137

Knox County

Vincennes Fortnightly Club, 421 N. Sixth St., Vincennes, 00001133

Marshall County

Marshall County Infirmary, 10924 Lincoln Highway, Plymouth, 00001139

Monroe County

Steele Dunning Historic District, Roughly bounded by Maple St., Kirkwood Ave., Rogers St., and W 3rd St., Bloomington, 00001140

Morgan County

Landers, Franklin-Black and Adams Farm, 2430 S. Old IN 67, Brooklyn, 00001142

Louisiana

Jefferson Parish

Bernard, L.J. Hardware Store, 275 Sala Ave., Westwego, 00001144

Sabine Parish

Kansas City Southern Railway Depot, 750 W. Georgia Ave., Many, 00001146

St. Tammany Parish

Dew Drop Social and Benevolent Hall, 400 Blk. Lamarque St., Mandeville, 00001145

Missouri

Franklin County

Bartsch—Jasper House, (Washington, Missouri MPS) 138 Old Pottery Rd., Washington, 00001149

Broeker, H.P., House, (Washington, Missouri MPS) 523 Hooker St., Washington, 00001147

Jackson County

Liberty Memorial, 100 W 26th St., Kansas City, 00001148

New Jersey

Hunterdon County

Wertsville Historic District, Wertsville and Lindbergh Rds., East Amwell Township, 00001150

New York

Albany County

Goodrich School, Fiddlers Ln., Colonie, 00001156

Newtonville School, 543 Loudon Rd., Colonie, 00001155

Kings County

DUMBO Industrial District, Roughly bounded by Main and Washington Sts, East River, John St., Bridge and Jay Sts., and Front and York Sts., Brooklyn, 00001151

Monroe County

Hopkins Farm, 3151 Clover St., Pittsford, 00001153

Whiteside, Barnett and Co. Agricultural Works, 60 Clinton St., Brockport, 00001157

New York County

New York Evening Post Building, 75 West St., New York, 00001160

Public School 109, 215 East 99th St., New York, 00001159

Steuben County

Market Street Historic District (Boundary Increase), N side of Market St. from Chestnut St. and Bridge St., Corning, 00001152

Washington County

Brown's Tavern, 7755 NY 40, South Hartford, 00001154

Westchester County

Standard House, 50 Hudson Ave., Peekskill, 00001158

North Carolina

Durham County

American Tobacco Company Manufacturing Plant, (Durham MRA) Roughly bounded by W. Pettigrew St., Blackwell St., Willard St. and Carr St., Durham, 00001163

Ohio

Ottawa County

First Congregational Church, 802 Prairie St., Marblehead, 00001161

Tennessee

Montgomery County

Robb, Alfred A., House, (Clarksville MPS) 529 York St., Clarksville, 00001162

Wisconsin

Ozaukee County

Voigt, Jacob, House, 11550 N. Wauwatosa Rd., Mequon, 00001164

[FR Doc. 00-22743 Filed 9-5-00; 8:45 am]

BILLING CODE 4310-70-P